DEPARTMENT OF THE INTERIOR

Minerals Management Service

Notice and Agenda for Meeting of the Royalty Policy Committee of the Minerals Management Advisory Board

AGENCY: Minerals Management Service (MMS), Interior.

ACTION: Notice of meeting.

SUMMARY: The Secretary of the Interior established a Royalty Policy Committee on the Minerals Management Advisory Board to provide advice on the Department's management of Federal and Indian minerals leases, revenues, and other minerals-related policies. Committee membership includes representatives from States, Indian tribes and allottee organizations, minerals industry associations, the general public, and Federal departments. At this 14th meeting, the committee will elect a Chairperson, Vice-Chairperson, and a Parliamentarian and receive subcommittee reports on sodium/potassium, coal, and marginal properties. The MMS will present reports on the Strategic Petroleum Reserve initiative, MMS activities associated with the Department's strategic planning initiative, and the impact of the Internet shut-down on constituents and industry. Guest presenters will discuss the Administration's energy legislation and management reform initiatives.

DATES: The meeting will be held on Tuesday, March 12, 2002, 8:30 a.m. to 5 p.m., Pacific Standard Time.

ADDRESSES: The meeting will be held at the Las Vegas Marriott Suites, 325 Convention Center Drive, Las Vegas, Nevada 89109, hotel telephone number, (702) 650-2000, hotel fax number (702) 650-9466.

FOR FURTHER INFORMATION CONTACT: Mr. Gary Fields, Royalty Policy Committee Coordinator, Minerals Revenue Management, Minerals Management Service, P.O. Box 25165, MS 300B3, Denver, CO 80225-0165, telephone number (303) 231-3102 or fax number (303) 231-3781.

SUPPLEMENTARY INFORMATION: The location and dates of future meetings will be published in the Federal Register. The meetings will be open to the public without advance registration on a space available basis. The public may make statements during the meetings, to the extent time permits, and file written statements with the committee for its consideration. Written statements should be submitted to Mr. Fields at the mailing address listed in the FOR FURTHER INFORMATION CONTACT section. Transcripts of committee meetings will be available 2 weeks after each meeting for public inspection and copying at MMS's Minerals Revenue Management, Building 85, Denver Federal Center, Denver, Colorado. These meetings are conducted under the authority of the Federal Advisory Committee Act, Public Law 92-463, 5 U.S.C. Appendix 1, and Office of Management and Budget Circular No. A-63, revised.

Dated: January 28, 2002.
Milton K. Dial,
Acting Associate Director for Minerals Revenue Management.

[FR Doc. 02-3193 Filed 2-8-02; 8:45 am]

BILLING CODE 4310-MR-P